DEPARTMENT OF EDUCATION

Notice of Proposed Information Collection Requests

AGENCY: Department of Education.

SUMMARY: The Director, Information Collection Clearance Division, Regulatory Information Management Services, Office of Management, invites comments on the proposed information collection requests as required by the Paperwork Reduction Act of 1995.

DATES: Interested persons are invited to submit comments on or before September 20, 2010.

SUPPLEMENTARY INFORMATION: Section 3506 of the Paperwork Reduction Act of 1995 (44 U.S.C. Chapter 35) requires that the Office of Management and Budget (OMB) provide interested Federal agencies and the public an early opportunity to comment on information collection requests. OMB may amend or waive the requirement for public consultation to the extent that public participation in the approval process would defeat the purpose of the information collection, violate State or Federal law, or substantially interfere with any agency's ability to perform its statutory obligations. The Director, Information Collection Clearance Division, Regulatory Information Management Services, Office of Management, publishes that notice containing proposed information collection requests prior to submission of these requests to OMB. Each proposed information collection, grouped by office, contains the following: (1) Type of review requested, e.g. new, revision, extension, existing or reinstatement; (2) Title; (3) Summary of the collection; (4) Description of the need for, and proposed use of, the information; (5) Respondents and frequency of collection; and (6) Reporting and/or Recordkeeping burden. OMB invites public comment.

The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology.

Dated: July 16, 2010.
Darrin A. King,
Director, Information Collection Clearance Division, Regulatory Information Management Services, Office of Management.

Office of Special Education and Rehabilitative Services

Type of Review: Revision.

Title: Scholar Data Report: Personnel Development Program, Part D of Individuals with Disabilities Education Act (IDEA).

OMB #: 1820-0530.

Frequency: Annually.

Affected Public: Not-for-profit institutions.

Reporting and Recordkeeping Hour Burden:

Responses: 450.

Burden Hours: 3,510.

Abstract: This package is a revision and contains instructions and the form necessary for grantees and contractors supported under the Individuals with Disabilities Education Act (IDEA), Personnel Development to Improve Services and Results for Children with Disabilities, Catalog Federal Domestic Assistance (CFDA) No. 84.325. Data obtained are used to evaluate and monitor the implementation of IDEA and for performance reporting. Analysis of these data will be used in the following ways: (a) To inform the activities and priorities specific to personnel preparation conducted by the U.S. Department of Education, Office of Special Education Programs (OSEP); (b) to determine variation in personnel preparation and factors related to that variation; and c) to evaluate the outcomes of the IDEA and the Personnel Development Program's performance measures under the Government Performance and Results Act (GPRA) and the Program Assessment Rating Tool (PART). OSEP revisions have: (a) Modified items that collect information on scholars' knowledge and skills to reduce grantee work burden and to diminish response ambiguity, to simplify data entry and analysis, and to delete two items that were no longer needed; (b) added one item to determine whether the grantee expects the scholar to complete the program; (c) added two items to first section to determine if scholar received funding under a previous grant and the number of credit hours earned prior to starting the current grant program and that will be accepted for program completion; and (d) enhanced instructions for a few items to make the form more user-friendly and diminish response ambiguity.

Requests for copies of the proposed information collection request may be accessed from http://edicsweb.ed.gov, by selecting the “Browse Pending Collections” link and by clicking on link number 4363. When you access the information collection, click on “Download Attachments” to view. Written requests for information should be addressed to U.S. Department of Education, 400 Maryland Avenue, SW., LBJ, Washington, DC 20202-4537. Requests may also be electronically mailed to ICDocketMgr@ed.gov or faxed to 202-401-0920. Please specify the complete title of the information collection when making your request.

Comments regarding burden and/or the collection activity requirements should be electronically mailed to ICDocketMgr@ed.gov. Individuals who use a telecommunications device for the deaf (TDD) may call the Federal Information Relay Service (FIRS) at 1-800-877-8339.

[FR Doc. 2010-17944 Filed 7-21-10; 8:45 am]

BILLING CODE 4000-01-P